DEPARTMENT OF AGRICULTURE

National Agricultural Statistics Service

Notice of Intent to Extend and Revise a Currently Approved Information Collection

AGENCY: National Agricultural Statistics Service, USDA.

ACTION: Notice and request for comments.

SUMMARY: This is a correction to the June 12, 2000 Federal Register Notice that announced the intent of the National Agricultural Statistics Service to extend and revise a currently approved information collection, the Agricultural Surveys Program. We are republishing the description of the information collection with corrected text.

DATES: Comments on this notice must be received by September 22, 2000 to be assured of consideration.

ADDITIONAL INFORMATION OR COMMENTS: Contact Rich Allen, Associate Administrator, National Agricultural Statistics Service, U.S. Department of Agriculture, 1400 Independence Avenue SW, Room 4117, South Building, Washington, D.C. 20250-2000, (202) 720-4333.

SUPPLEMENTARY INFORMATION: On June 12, 2000, we published a Federal Register Notice that announced the intent of the National Agricultural Statistics Service to extend and revise a currently approved information collection, the Agricultural Surveys Program. There was an error in the fourth paragraph of the Abstract. Text has been changed from “addition of questions regarding damage to crops by wildlife” to “addition of questions regarding losses of cattle caused by wildlife” and “identify and monitor crop losses caused by wildlife” to “identify and monitor cattle losses caused by wildlife.” The comment period will be extended to 30 days from the date of this notice.

Title: Agricultural Surveys Program.

OMB Control Number: 0535-0213.

Expiration Date of Approval: November 30, 2000.

Type of Request: Intent to extend and revise a currently approved information collection.

Abstract: The National Agricultural Statistics Service is responsible for collecting and issuing state and national estimates of crop and livestock production, grain stocks, farm numbers, land values, on-farm pesticide usage, and pest crop management practices. The Agricultural Surveys Program contains a series of surveys that obtains basic agricultural data from farmers and ranchers throughout the Nation for preparing agricultural estimates and forecasts of crop acreage, yield, and production; stocks of grains and soybeans; hog and pig numbers; sheep inventory and lamb crop; cattle inventory; and cattle on feed. Grazing fees, land values, pesticide usage, and pest management practices data are also collected.

Uses of the statistical information are extensive and varied. Producers, farm organizations, agribusinesses, state and national farm policy makers, and government agencies are important users of these statistics. Agricultural statistics are used to plan and administer other related Federal and state programs in such areas as consumer protection, conservation, foreign trade, education, and recreation.

One important modification to the program is the addition of a Monthly Hog Survey. NASS was directed to publish on a monthly basis the Hogs and Pigs Inventory Report with the passage by Congress and signature of the President of H.R. 1906, the FY 2000 Department of Agriculture budget. The Monthly Hog Survey will supplement the Hog Survey Program currently conducted as part of the Quarterly Agricultural Surveys. The monthly surveys will use a shorter version of the quarterly questionnaire and will be conducted eight times a year, during the months between the quarterly surveys. The sampling frame for the monthly program will be hog owners who reported breeding females on the December Quarterly Hog Survey.

A second revision to the program is the addition of questions regarding losses of cattle caused by wildlife, methods being used to reduce these losses, and the cost of preventative measures. These additional questions will be asked only in January 2001. Aggregated totals will be provided to the USDA's Animal and Plant Health Inspection Service action agency, Wildlife Services, to help identify and monitor cattle losses caused by wildlife.

The third revision is the discontinuance of the Fall Area Survey. A reduced sample of the 1999 Fall Area Surveys respondents will be selected for an Integrated Pest Management Survey (IPM). This survey will be conducted only in January 2001 to collect information on IPM practices formerly collected as part of the Fall Area Survey. This is the fourth year of the USDA plan to measure the general adoption of IPM practices for the Nation's agricultural production.

The Agricultural Surveys Program has approval from OMB for a 3-year period. NASS intends to request that the program be approved for another 3 years.

These data are collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 15 minutes per response.

Respondents: Farms.

Estimated Number of Respondents: 547,000.

Estimated Total Annual Burden on Respondents: 139,000 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162, South Building, Washington, D.C. 20250-2000. All responses to this notice will become a matter of public record and be summarized in the request for OMB approval.

Signed at Washington, D.C., August 10, 2000.
Rich Allen,
Associate Administrator.

[FR Doc. 00-21511 Filed 8-22-00; 8:45 am]

BILLING CODE 3410-20-P